FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011742

Title: P&O Nedlloyd-Farrell/Hapag-Lloyd/Zim Mediterranean Space Charter Agreement.

Parties: P&O Nedlloyd Limited, P&O Nedlloyd B.V., Farrell Lines, Inc., Hapag-Lloyd Linie GmbH, Zim Israel Navigation Co. Ltd.

Synopsis: The proposed agreement authorizes the parties to establish a cooperative arrangement to discuss and agree on the number, size, and characteristics of vessels deployed, and to exchange and charter vessel space between the parties in the trade between the U.S. East and Gulf coast ports, and major ports in the Mediterranean, including Atlantic ports of Portugal.

Agreement No.: 011743

Title: Global Transportation Network Agreement.

Parties: APL Co. PTE Ltd., CP Ships Holding Inc., Crowley Maritime Corporation, Hanjin Shipping Co., Ltd., Hyundai Merchant Marine Co., Ltd., Kawasaki Kisen Kaisha, Ltd., Mitsu O.S.K. Lines, Ltd., Senator Line GmbH, Yangming Marine Transport Corp., Zim Israel Navigation Company.

Synopsis: The proposed agreement authorizes members to establish and operate an Internet Portal so they and other user carriers may provide information and offer services to their respective customers worldwide.

By Order of the Federal Maritime Commission.
Dated: December 28, 2000.
Bryant L. VanBrakle,
Secretary.

[FR Doc. 01-161 Filed 1-3-01; 8:45 am]

BILLING CODE 6730-01-P